DEPARTMENT OF COMMERCE

International Trade Administration

[A-580-836]

Certain Cut-to-Length Carbon-Quality Steel Plate from the Republic of Korea: Partial Rescission of Antidumping Duty Administrative Review

AGENCY: Import Administration, International Trade Administration, Department of Commerce.

SUMMARY: On March 24, 2009, in response to a request from interested parties, the Department of Commerce published a notice of initiation of the administrative review of the antidumping duty order on certain cut-to-length carbon-quality steel plate from the Republic of Korea. The period of review is February 1, 2008, through January 31, 2009. The Department of Commerce is rescinding this review in part.

EFFECTIVE DATE: June 5, 2009.

FOR FURTHER INFORMATION CONTACT: Yang Jin Chun or Richard Rimlinger, AD/CVD Operations, Office 5, Import Administration, International Trade Administration, U.S. Department of Commerce, 14th Street and Constitution Avenue, NW, Washington, DC 20230; telephone: (202) 482-5760 and (202) 482-4477, respectively.

SUPPLEMENTARY INFORMATION:

Background

On March 24, 2009, in response to a request from interested parties, the Department of Commerce (the Department) initiated an administrative review of the antidumping duty order on certain cut-to-length carbon-quality steel plate (CTL plate) from the Republic of Korea (Korea) for the period of review February 1, 2008, through January 31, 2009. See Initiation of Antidumping and Countervailing Duty Administrative Reviews and Requests for Revocation in Part, 74 FR 12310, 12312 (March 24, 2009) (Initiation Notice). One of the companies included in the Initiation Notice was Dongkuk Steel Mill Co., Ltd. (DSM). On April 8, 2009, DSM withdrew its request that we review its sales of subject merchandise from Korea.

Rescission of Review

In accordance with 19 CFR 351.213(d)(1), the Department will rescind an administrative review in part “if a party that requested the review withdraws the request within 90 days of the date of publication of notice of initiation of the requested review.” We received the letter withdrawing the request for the review of DSM within the 90-day time limit. The Department received no other requests for review of this company. In accordance with 19 CFR 351.213(d)(1), the Department is rescinding the review in part with respect to CTL plate from Korea produced and/or exported by DSM. The Department will issue appropriate assessment instructions to U.S. Customs and Border Protection 15 days after publication of this notice.

Notification to Importer

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice is published in accordance with section 777(i)(1) of the Tariff Act of 1930, as amended, and 19 CFR 351.213(d)(4).

Dated: June 1, 2009.
John M. Andersen,
Acting Deputy Assistant Secretary for Antidumping and Countervailing Duty Operations.

[FR Doc. E9-13191 Filed 6-4-09; 8:45 am]

BILLING CODE 3510-DS-S